DEPARTMENT OF TRANSPORTATION

Federal Aviation Administration

Public Notice for Waiver of Aeronautical Land-Use Assurance; Rickenbacker International Airport, Columbus, OH

AGENCY: Federal Aviation Administration, DOT.

ACTION: Notice of intent of waiver with respect to land.

SUMMARY: The Federal Aviation Administration (FAA) is considering a proposal to change a portion of the airport from aeronautical use to non-aeronautical use and to authorize the release of 8.655 acres of airport property for the proposed right-of-way for the Alum Creek Drive Extension between Ashville Pike and Lockbourne-Eastern Road. The land is vacant and is currently being farmed. The land was acquired by the Rickenbacker Port Authority through a Quitclaim Deed dated March 30, 1984 from the Administrator of General Services for the United States of America. There are no impacts to the airport by allowing the airport to dispose of the property. Approval does not constitute a commitment by the FAA to financially assist in the disposal of the subject airport property nor a determination of eligibility for grant-in-aid funding from the FAA. The CRAA will not receive payment for the dedication of the right-of-way to the City of Columbus or Franklin County for public transportation purposes.

In accordance with section 47107(h) of title 49, United States Code, this notice is required to be published in the Federal Register 30 days before modifying the land-use assurance that requires the property to be used for an aeronautical purpose.

DATES: Comments must be received on or before August 26, 2005.

FOR FURTHER INFORMATION CONTACT: Mary W. Jagiello, Program Manager, Federal Aviation Administration, Great Lakes Region, Detroit Airports District Office, DET ADO-608, 11677 South Wayne Road, Suite 107, Romulus, Michigan 48174. Telephone Number (734-229-2956)/FAX Number (734-229-2950). Documents reflecting this FAA action may be reviewed at this same location or Rickenbacker International Airport, Columbus, Ohio.

SUPPLEMENTARY INFORMATION: Following is a legal description of the property located in Columbus, Pickaway County, Ohio, and described as follows:

Beginning at an angle point in the centerline of Ashville Pike (County Road 28), at an angle point in the boundary of said Tract 1, at the northeasterly corner of that five acre tract as described in a Survivorship Deed to Darrell T. Wilson and Dorothy M. Wilson, of record in Official Record Volume 245, Page 267, filed October 15, 2001, on file in the Recorder's Office, Pickaway County, Ohio;

Thence North 03°43′38″ East, along the centerline of Ashville Pike extended, into said Tract 1, a distance of 46.61 feet to a point;

Thence South 86°35′55″ East, through said Tract 1, a distance of 2693.18 feet to a point in the easterly line of Section 13;

Thence South 03°47′28″ West, continuing through said Tract 1, along the easterly line of said Section 13, along the centerline of Lockbourne Eastern Road (Township Road 31) passing the centerline intersection of Airbase Road and said Lockbourne Eastern Road (Township Road 31) at a distance of 55.94 feet, a total distance of 140.00 feet to a point;

Thence North 86°35′55″ West, continuing through said Tract 1, a distance of 2693.02 feet to a point in the centerline of Ashville Pike (County Road 28), in a westerly line of said Tract 1, in the easterly line of said five acre tract as described in said Survivorship Deed to Darrell T. Wilson and Dorothy M. Wilson;

Thence North 03°43′38″ East, along the centerline of Ashville Pike, along a westerly line of said Tract 1, a distance of 93.39 feet to the point of Beginning and containing 8.655 acres, more or less. The basis of bearings are based on the grid bearing of South 86°13′48″ East, between Franklin County Survey Control Monument Numbers 9958 and 9962.

Issued in Romulus, Michigan, on July 13, 2005.
Irene R. Porter,
Manager, Detroit Airports District Office, FAA, Great Lakes Region.

[FR Doc. 05-14758 Filed 7-26-05; 8:45 am]

BILLING CODE 4910-13-M